ENVIRONMENTAL PROTECTION AGENCY

[OPP-00439I; FRL-6757-1]

Pesticide Program Dialogue Committee (PPDC); Notice of Invitation for Nominations of Qualified Candidates to be Considered for Appointment to EPA's PPDC

AGENCY: Environmental Protection Agency (EPA).

ACTION: Notice.

SUMMARY: EPA's Office of Pesticide Programs (OPP) is inviting nominations of qualified candidates to consider for appointment to the Pesticide Program Dialogue Committee (PPDC). EPA renewed the Charter for the PPDC in November 1999 for a two-year term. EPA intends to seek renewal of the PPDC Charter for another two-year term in November 2001 in accordance with the Federal Advisory Committee Act, 5 U.S.C., App.2 section 9(c).

DATES: Nominations will be accepted until 5 p.m. on December 29, 2000.

ADDRESSES: Nominations should be submitted in writing to Margie Fehrenbach, Designated Federal Officer for PPDC, Office of Pesticide Programs, (7501C), U.S. Environmental Protection Agency, 1200 Pennsylvania Ave., NW., Washington, DC; e-mail address: fehrenbach.margie@epa.gov.

FOR FURTHER INFORMATION CONTACT: By mail: Margie Fehrenbach, Designated Federal Officer for PPDC, Office of Pesticide Programs, (7501C), U.S. Environmental Protection Agency, 1200 Pennsylvania Ave., NW., Washington, DC 20460; telephone number: (703) 308-4775 or (703) 305-7090; fax number: (703) 308-4776; e-mail address: Fehrenbach.Margie@epa.gov.

SUPPLEMENTARY INFORMATION:

I. Does this Action Apply to Me?

This action is directed to the public in general. This action may, however, be of interest to persons who are concerned about implementation of the Food Quality Protection Act (Public Law 104-170) which was passed in 1996 to strengthen the nation's system for regulating pesticides on food; the Federal Insecticide, Fungicide, and Rodenticide Act; and the Federal Food, Drug, and Cosmetic Act. PPDC was established in 1995 to provide a forum for a diverse group of stakeholders to provide advice and recommendations to EPA regarding pesticide regulatory and policy issues. Since other entities may also be interested, the Agency has not attempted to describe all the specific entities that may be affected by this action. If you have any questions regarding the applicability of this action to a particular entity, consult the person listed under FOR FURTHER INFORMATION CONTACT.

II. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access information regarding PPDC, go directly to the Home Page for EPA's Office of Pesticide Programs at http://www.epa.gov/pesticides/ and select ppdc.

2. In person. The Agency has established an administrative record for all PPDC meetings and workgroups under docket control number OPP-00439. The administrative record consists of the documents specifically referenced in this notice, any public comments received during an applicable comment period, and other information related to the Pesticide Program Dialogue Committee and its workgroups, including any information claimed as Confidential Business Information (CBI). This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

3. By mail. You may submit a request to: Public Information and Records Integrity Branch (PIRIB), Information Resources and Services Division (7502C), Office of Pesticide Programs (OPP), Environmental Protection Agency, 1200 Pennsylvania Ave., NW., Washington, DC 20460.

III. Background

The Office of Pesticide Programs is entrusted with the responsibility of ensuring the safety of the American food supply, the protection and education of those who apply or are exposed to pesticides occupationally or through use of products from unreasonable risk, and general protection of the environment and special ecosystems from potential risks posed by pesticides.

The Pesticide Program Dialogue Committee (PPDC) is a federal advisory committee under the Federal Advisory Committee Act (FACA), Public Law 92-463. It was established in September 1995 for a two-year term and renewed in November 1997 and November 1999. PPDC provides advice and recommendations to the Office of Pesticide Programs on a broad range of pesticide regulatory, policy and program implementation issues that are associated with evaluating and reducing risks from use of pesticides.

EPA intends to appoint members to one- or two-year terms. An important consideration in EPA's selection of members will be to maintain balance and diversity of experience and expertise. EPA also intends to seek broad geographic representation from the following sectors: environmental/public interest and consumer groups; farm worker organizations; pesticide industry and trade associations; pesticide user, grower, and commodity groups; Federal and State/local/Tribal governments; the general public; academia; and public health organizations.

Potential candidates should submit the following information: name, occupation, organization, position, address, telephone number and a brief resume containing their background, experience, qualifications and other relevant information as part of the consideration process. Any interested person and/organization may submit the name(s) of qualified persons.

Copies of the PPDC charter are filed with appropriate committees of Congress and the Library of Congress and are available upon request.

List of Subjects

Environmental protection, Pesticides, Inerts, PPDC.

Dated: November 28, 2000.
Marcia E. Mulkey,
Director, Office of Pesticide Programs.

[FR Doc. 00-30916 Filed 12-05-00; 8:45 am]

BILLING CODE 6560-50-S